DEPARTMENT OF TRANSPORTATION

Federal Aviation Administration

14 CFR Part 39

[Docket No. FAA-2007-27739; Directorate Identifier 2006-NM-250-AD; Amendment 39-15760; AD 2008-25-02]

RIN 2120-AA64

Airworthiness Directives; Airbus Model A330 Airplanes; and Model A340-200 and -300 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

* * * * *

The aim of * * * [Special Federal Aviation Regulation (SFAR) 88] is to require all holders of type certificates * * * to carry out a definition review against explosion hazards.

The unsafe condition is the potential of ignition sources inside fuel tanks, which, in combination with flammable fuel vapors, could result in fuel tank explosions and consequent loss of the airplane. We are issuing this AD to require actions to correct the unsafe condition on these products.

DATES: This AD becomes effective January 15, 2009.

The Director of the Federal Register approved the incorporation by reference of certain publications listed in this AD as of January 15, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION:

Discussion

We issued a supplemental notice of proposed rulemaking (NPRM) to amend 14 CFR part 39 to include an AD that would apply to the specified products. That supplemental NPRM was published in the Federal Register on June 17, 2008 (73 FR 34228). That supplemental NPRM proposed to correct an unsafe condition for the specified products. The MCAI states:

[T]he FAA published SFAR 88 (Special Federal Aviation Regulation 88).

By mail referenced 04/00/02/07/01-L296 of March 4th, 2002 and 04/00/02/07/03-L024 of February 3rd, 2003 the JAA (Joint Aviation Authorities) recommended to the National Aviation Authorities (NAA) the application of a similar regulation.

The aim of this regulation is to require all holders of type certificates for passenger transport aircraft certified after January 1st, 1958 with a capacity of 30 passengers or more, or a payload of 3,402 kg or more, to carry out a definition review against explosion hazards.

Consequently, the following measures [are] rendered mandatory * * *:

• [inspection and] replacement [if necessary] of the white P-clips by blue P-clips which are more fuel resistant remove the risks of fuel quantity indicator (FQI) and fuel level sensor system (FLSS) harnesses chafing against the metallic part of the P-clip,

• Modification of electrical bonding of equipment installed in fuel tanks in order to re-establish the conformity with the design definition by introducing additional bonding leads, electrical bonding points and electrical bonding of a support bracket for a diffuser assembly installed between Rib 1 and Rib 2 on the stringers of the Number 1 bottom skin panel,

• Modification of bonding points, installation of additional bonding leads and other modifications of the Additional Center Tank (ACT),

• Modification to increase the distance between metallic parts on the THS Trim Tank,

• Installation of a bonding lead between the bonding tags on the Jettison valve actuator and drive assembly.

This new AD supersedes EASA AD 2006-0322, taking over its requirements and:

• Mandates SB [service bulletin] A330-28-3082 Revision 04 which introduces an additional work for some bonding points which were omitted from the center tank at original issue (action n°2 [paragraph (f)(2) of this AD]);

• Mandates SB A340-28-4097 Revision 03 which introduces an additional work by addition of electrical bondings omitted from previous revisions (action n°2);

• Introduces an extension of the required compliance time to perform action n°4 for those aircraft already compliant with AIRBUS AOT 55-03 dated 22 August 1996 (“solution A”), mandated by DGAC [Direction Générale de l'Aviation Civile] AD F-1996-178-049(B) R1 and DGAC AD F-1996-177-038(B) with a compliance time of November 15th, 1996;

• Refers to the latest revision of certain AIRBUS SBs.

The unsafe condition is the potential of ignition sources inside fuel tanks, which, in combination with flammable fuel vapors, could result in fuel tank explosions and consequent loss of the airplane. You may obtain further information by examining the MCAI in the AD docket.

Explanation of New Service Information

Airbus has issued Mandatory Service Bulletin A330-28-3082, Revision 05, including Appendix 1, dated May 27, 2008. We referred to Revision 04 of that service bulletin, dated August 3, 2007, as the appropriate source of service information for accomplishing certain actions specified in the supplemental NPRM. Revision 05 of the service bulletin was issued to delete information relating to the bonding of a bracket at Stringer 14 between Rib 1 and Rib 2, which is not applicable to the Model A330 airplanes affected by that service bulletin. Revision 05 also includes additional kits and other minor editorial changes. No additional work is required for airplanes modified in accordance with Revision 04.

We have changed Table 1 of this AD to include a reference to Revision 05, in addition to Revision 04, of Airbus Mandatory Service Bulletin A330-28-3082 for defining the applicability of certain paragraphs. We have also changed paragraphs (f)(2)(i) and (f)(2)(iii) of this AD to specify Revision 05 of the service bulletin as the appropriate source of service information for doing the actions in those paragraphs, and we have changed Table 2 of this AD to list Revision 04 of the service bulletin as acceptable for accomplishment of the actions before the effective date of this AD. Finally, we have changed Table 3 of this AD to include Revision 05 of the service bulletin in the list of related service information.

Comments

We gave the public the opportunity to participate in developing this AD. We received no comments on the NPRM or on the determination of the cost to the public.

Conclusion

We reviewed the available data and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 28 products of U.S. registry. We also estimate that it will take about 670 work-hours per product to comply with the basic requirements of this AD. The average labor rate is $80 per work-hour. Required parts will cost about $2,718 per product. Where the service information lists required parts costs that are covered under warranty, we have assumed that there will be no charge for these parts. As we do not control warranty coverage for affected parties, some parties may incur costs higher than estimated here. Based on these figures, we estimate the cost of this AD to the U.S. operators to be $1,576,904, or $56,318 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-25-02 Airbus: Amendment 39-15760. Docket No. FAA-2007-27739; Directorate Identifier 2006-NM-250-AD.

Effective Date

(a) This airworthiness directive (AD) becomes effective January 15, 2009.

Affected ADs

(b) None.

Applicability

(c) This AD applies to all Airbus Model A330, A340-200, and A340-300 airplanes, all certified models, all serial numbers, certificated in any category.

Subject

(d) Air Transport Association (ATA) of America Codes 28: Fuel, and 55: Stabilizers.

Reason

(e) The mandatory continuing airworthiness information (MCAI) states:

[T]he FAA published SFAR 88 (Special Federal Aviation Regulation 88).

By mail referenced 04/00/02/07/01-L296 of March 4th, 2002 and 04/00/02/07/03-L024 of February 3rd, 2003, the JAA (Joint Aviation Authorities) recommended to the National Aviation Authorities (NAA) the application of a similar regulation.

The aim of this regulation is to require all holders of type certificates for passenger transport aircraft certified after January 1st, 1958 with a capacity of 30 passengers or more, or a payload of 3,402 kg or more, to carry out a definition review against explosion hazards.

Consequently, the following measures [are] rendered mandatory * * *:

• [inspection and] replacement [if necessary] of the white P-clips by blue P-clips which are more fuel resistant remove the risks of fuel quantity indicator (FQI) and fuel level sensor system (FLSS) harnesses chafing against the metallic part of the P-clip,

• Modification of electrical bonding of equipment installed in fuel tanks in order to re-establish the conformity with the design definition by introducing additional bonding leads, electrical bonding points and electrical bonding of a support bracket for a diffuser assembly installed between Rib 1 and Rib 2 on the stringers of the Number 1 bottom skin panel,

• Modification of bonding points, installation of additional bonding leads and other modifications of the Additional Center Tank (ACT),

• Modification to increase the distance between metallic parts on the THS (trimmable horizontal stabilizer) Trim Tank,

• Installation of a bonding lead between the bonding tags on the Jettison valve actuator and drive assembly.

This new AD supersedes EASA AD 2006-0322, taking over its requirements and:

• Mandates SB [service bulletin] A330-28-3082 Revision 04 which introduces an additional work for some bonding points which were omitted from the center tank at original issue (action n°2 [paragraph (f)(2) of this AD]);

• Mandates SB A340-28-4097 Revision 03 which introduces an additional work by addition of electrical bondings omitted from previous revisions (action n°2);

• Introduces an extension of the required compliance time to perform action n°4 for those aircraft already compliant with AIRBUS AOT 55-03 dated 22 August 1996 (“solution A”), mandated by DGAC [Direction Générale de l'Aviation Civile] AD F-1996-178-049(B) R1 and DGAC AD F-1996-177-038(B) with a compliance time of November 15th, 1996;

• Refers to the latest revision of certain AIRBUS SBs.

The unsafe condition is the potential of ignition sources inside fuel tanks, which, in combination with flammable fuel vapors, could result in fuel tank explosions and consequent loss of the airplane.

Actions and Compliance

(f) Unless already done, do the actions in paragraphs (f)(1), (f)(2), (f)(3), (f)(4), and (f)(5) of this AD for the applicable airplanes identified in Table 1 of this AD.

Table 1—Applicable Paragraphs by Model
These airplane models— | Except airplanes— | Are affected by these paragraphs of this AD—
Model A330, A340-200, and A340-330 airplanes | On which Airbus Modification 47634 has been embodied in production | (f)(1).
| • On which both Airbus Modifications 49135 and 49630 have been embodied in production | (f)(2)(i), except as provided by paragraphs (f)(2)(ii) and (f)(2)(iii) of this AD.
| • Both Airbus Modifications 51825 and 55118 have been embodied in production
| • That have been modified in-service in accordance with both Airbus Mandatory Service Bulletin A330-28-3082, Revision 04, including Appendix 01, dated August 3, 2007, or Revision 05, including Appendix 1, dated May 27, 2008; and Airbus Mandatory Service Bulletin A330-28-3101, Revision 01, dated October 11, 2006
| • That have been modified in-service in accordance with both Airbus Mandatory Service Bulletin A340-28-4097, Revision 03, including Appendix 01, dated July 3, 2007; and Airbus Mandatory Service Bulletin A340-28-4118, Revision 02, dated July 10, 2007
Model A330 airplanes on which the actions specified in Airbus Service Bulletin A330-28-3082, dated June 14, 2004, have been accomplished before the effective date of this AD; and Model A340-200 and A340-300 airplanes on which the actions specified in Airbus Service Bulletin A340-28-4097, dated June 14, 2004, Revision 01, dated March 3, 2005, or Airbus Mandatory Service Bulletin A340-28-4097, Revision 02, dated August 16, 2006, have been accomplished before the effective date of this AD | • On which both Airbus Modifications 49135 and 49630 have been embodied in production • Both Airbus Modifications 51825 and 55118 have been embodied in production • That have been modified in-service in accordance with both Airbus Mandatory Service Bulletin A330-28-3082, Revision 04, including Appendix 01, dated August 3, 2007, or Revision 05, including Appendix 1, dated May 27, 2008; and Airbus Mandatory Service Bulletin A330-28-3101, Revision 01, dated October 11, 2006 | (f)(2)(ii) and (f)(2)(iii).
| • That have been modified in-service in accordance with both Airbus Mandatory Service Bulletin A340-28-4097, Revision 03, including Appendix 01, dated July 3, 2007, and Airbus Mandatory Service Bulletin A340-28-4118, Revision 02, dated July 10, 2007
Model A340-200 and A340-300 airplanes that have the ACT embodied in production or in service (Airbus Modification 42612, 44002, or 44005) | That have been modified in service by Airbus Mandatory Service Bulletin A340-28-4078, Revision 01, dated January 25, 2007 | (f)(3).
Model A340-200 and A340-300 airplanes | • On which Airbus Modification 44252 has been embodied in production | (f)(4)(i), except as provided by paragraph (f)(4)(ii) of this AD.
| • That have been modified in-service in accordance with Airbus Service Bulletin A340-55-4017, dated August 20, 1996; Revision 1, dated February 12, 2007; or Revision 02, dated March 16, 2007
Model A330-301, -321, -322, -341, -342 airplanes | • On which Airbus Modification 44252 has been embodied in production | (f)(4)(i), except as provided by paragraph (f)(4)(ii) of this AD.
| • That have been modified in-service in accordance with Airbus Service Bulletin A330-55-3016, dated August 20, 1996; Revision 1 dated February 12, 1997; or Revision 02, dated March 16, 2007
Model A330-301, -321, -322, -341, -342 airplanes; and Model A340-200 and A340-300 airplanes | On which the improvement of the THS lightning strike protection has already been performed before the effective date of this AD in accordance with Airbus A330/A340 All Operators Telex 55-03, dated August 22, 1996 (“solution A”), mandated by Direction Générale de l'Aviation Civile (DGAC) Airworthiness Directive F-1996-178-049(B) R1, and DGAC Airworthiness Directive F-1996-177-038(B), with a compliance time of November 15, 1996 | (f)(4)(ii).
Model A340-200 and A340-300 airplanes | • On which Airbus Modification 46142 has been embodied in production | (f)(5).
| • That have been modified in-service in accordance with Airbus Mandatory Service Bulletin A340-28-4073, Revision 02, dated March 8, 2007

(1) Within 24 months after the effective date of this AD, do a detailed visual inspection of the P-clips in the wings and center fuel tanks, and apply the applicable corrective actions, in accordance with the applicable instructions of Airbus Mandatory Service Bulletin A330-28-3092, Revision 01, dated December 14, 2005; or Airbus Mandatory Service Bulletin A340-28-4107, Revision 01, dated December 14, 2005.

(2) Do the requirements of paragraphs (f)(2)(i), (f)(2)(ii), and (f)(2)(iii) of this AD, as applicable, at the times specified in those paragraphs.

(i) For airplanes affected by this paragraph, as specified in Table 1 of this AD: Within 24 months after the effective date of this AD, modify the electrical bonding of the equipment installed in fuel tanks, in accordance with both Airbus Mandatory Service Bulletin A330-28-3082, Revision 05, including Appendix 1, dated May 27, 2008, and Airbus Mandatory Service Bulletin A330-28-3101, Revision 01, dated October 11, 2006; or both Airbus Mandatory Service Bulletin A340-28-4097, Revision 03, including Appendix 01, dated July 3, 2007, and Airbus Mandatory Service Bulletin A340-28-4118, Revision 02, dated July 10, 2007; as applicable.

(ii) For airplanes affected by this paragraph, as specified in Table 1 of this AD: Within 24 months after the effective date of this AD, modify the electrical bonding of the equipment installed in fuel tanks, in accordance with Airbus Mandatory Service Bulletin A330-28-3101, Revision 01, dated October 11, 2006; or Airbus Mandatory Service Bulletin A340-28-4118, Revision 02, dated July 10, 2007; as applicable.

(iii) For airplanes affected by this paragraph, as specified in Table 1 of this AD: Within 48 months after the effective date of this AD, do the additional work specified in Airbus Mandatory Service Bulletin A330-28-3082, Revision 05, including Appendix 1, dated May 27, 2008; or Airbus Mandatory Service Bulletin A340-28-4097, Revision 03, including Appendix 01, dated July 3, 2007; in accordance with the accomplishment instructions of those service bulletins, as applicable.

(3) Within 24 months after the effective date of this AD, modify the electrical bonding in the ACT in accordance with the Accomplishment Instructions of Airbus Mandatory Service Bulletin A340-28-4078, Revision 01, dated January 25, 2007.

(4) Within 24 months after the effective date of this AD, do the requirements of paragraphs (f)(4)(i) and (f)(4)(ii), as applicable.

(i) For airplanes affected by this paragraph, as specified in Table 1 of this AD: Within 24 months after the effective date of this AD, increase the distance between metallic parts on the THS trim tank in accordance with the Accomplishment Instructions of Airbus Mandatory Service Bulletin A330-55-3016, Revision 02, March 16, 2007; or Airbus Mandatory Service Bulletin A340-55-4017, Revision 02, dated March 16, 2007; as applicable.

(ii) For airplanes affected by this paragraph, as specified in Table 1 of this AD: At the first THS removal from the aircraft done for any reason after the effective date of this AD (e.g., fuselage stress jacking, and repair) when the airplane is on a support tool (lifting and resting point fittings must be installed), or at the time of the first maintenance task that requires the use of THS lifting and resting point fittings, whichever occurs earlier, increase the distance between metallic parts on the THS trim tank in accordance with the Accomplishment Instructions of Airbus Mandatory Service Bulletin A330-55-3016, Revision 02, March 16, 2007; or Airbus Mandatory Service Bulletin A340-55-4017, Revision 02, dated March 16, 2007; as applicable.

(5) Within 24 months after the effective date of this AD, install a bonding lead between the bonding tags on the jettison valve actuator and drive assembly in accordance with the instructions of Airbus Mandatory Service Bulletin A340-28-4073, Revision 02, dated March 8, 2007.

(6) Actions done before the effective date of this AD in accordance with the service bulletins listed in Table 2 of this AD are acceptable for compliance with the corresponding requirements of this AD.

Table 2—Credit Service Bulletins
Airbus Service information | Revision level | Date | Corresponding paragraphs
Mandatory Service Bulletin A330-28-3082 | 02 | August 11, 2006 | (f)(2)(i) of this AD.
Mandatory Service Bulletin A330-28-3082 | 03 | November 15, 2006 | (f)(2)(i) and (f)(2)(iii) of this AD.
Mandatory Service Bulletin A330-28-3082 | 04 | August 3, 2007 | (f)(2)(i) and (f)(2)(iii) of this AD.
Mandatory Service Bulletin A330-28-3101 | Original | June 5, 2006 | (f)(2)(i) and (f)(2)(ii) of this AD.
Mandatory Service Bulletin A340-28-4118 | Original | June 5, 2006 | (f)(2)(i) and (f)(2)(ii) of this AD.
Mandatory Service Bulletin A340-28-4118 | 01 | October 11, 2006 | (f)(2)(i) and (f)(2)(ii) of this AD.
Service Bulletin A330-28-3082 | 01 | March 2, 2005 | (f)(2)(i) of this AD.
Service Bulletin A330-55-3016 | Original | August 20, 1996 | (f)(4)(i) and (f)(4)(ii) of this AD.
Service Bulletin A330-55-3016 | 1 | February 12, 1997 | (f)(4)(i) and (f)(4)(ii) of this AD.
Service Bulletin A340-28-4073 | Original | May 14, 1998 | (f)(5) of this AD.
Service Bulletin A340-28-4073 | 01 | October 9, 1998 | (f)(5) of this AD.
Service Bulletin A340-28-4078 | Original | March 17, 2000 | (f)(3) of this AD.
Service Bulletin A340-55-4017 | Original | August 20, 1996 | (f)(4)(i) and (f)(4)(ii) of this AD.
Service Bulletin A340-55-4017 | 1 | February 12, 1997 | (f)(4)(i) and (f)(4)(ii) of this AD.

FAA AD Differences

Note 1: This AD differs from the MCAI and/or service information as follows: No differences.

Other FAA AD Provisions

(g) The following provisions also apply to this AD:

(1) Alternative Methods of Compliance (AMOCs): The Manager, ANM-116, International Branch, Transport Airplane Directorate, FAA, has the authority to approve AMOCs for this AD, if requested using the procedures found in 14 CFR 39.19. Send information to ATTN: Tim Backman, Aerospace Engineer, ANM-116, International Branch, Transport Airplane Directorate, FAA, 1601 Lind Ave. SW., Renton, Washington, 98057-3356, telephone (425) 227-2797; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Airworthiness Directive 2007-0278, dated November 5, 2007 [Corrected: November 8, 2007], and the service bulletins in Table 3 of this AD, for related information.

Table 3—Related Service Bulletins
Airbus Mandatory Service Bulletin | Revision level | Date
A330-28-3082, including Appendix 1 | 05 | May 27, 2008.
A330-28-3092, excluding Appendix 01 | 01 | December 14, 2005.
A330-28-3101 | 01 | October 11, 2006.
A330-55-3016 | 02 | March 16, 2007.
A340-28-4073 | 02 | March 8, 2007.
A340-28-4078 | 01 | January 25, 2007.
A340-28-4097, including Appendix 01 | 03 | July 3, 2007.
A340-28-4107, excluding Appendix 01 | 01 | December 14, 2005.
A340-28-4118 | 02 | July 10, 2007.
A340-55-4017 | 02 | March 16, 2007.

Material Incorporated by Reference

(i) You must use the service information specified in Table 4 of this AD to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; fax +33 5 61 93 45 80, e-mail airworthiness.A330-A340@airbus.com; Internet http://www.airbus.com.

(3) You may review copies of the service information that is incorporated by reference at the FAA, Transport Airplane Directorate, 1601 Lind Avenue, SW., Renton, Washington. For information on the availability of this material at the FAA, call 425-227-1221 or 425-227-1152.

(4) You may also review copies of the service information at the National Archives and Records Administration (NARA). For information on the availability of this material at NARA, call (202) 741-6030, or go to: http://www.archives.gov/federal-register/cfr/ibr-locations.html.

Table 4—Material Incorporated by Reference
Airbus Mandatory Service Bulletin | Revision level | Date
A330-28-3082, including Appendix 1 | 05 | May 27, 2008.
A330-28-3092, excluding Appendix 01 | 01 | December 14, 2005.
A330-28-3101 | 01 | October 11, 2006.
A330-55-3016 | 02 | March 16, 2007.
A340-28-4073 | 02 | March 8, 2007.
A340-28-4078 | 01 | January 25, 2007.
A340-28-4097, including Appendix 01 | 03 | July 3, 2007.
A340-28-4107, excluding Appendix 01 | 01 | December 14, 2005.
A340-28-4118 | 02 | July 10, 2007.
A340-55-4017 | 02 | March 16, 2007.

Issued in Renton, Washington, on November 26, 2008.
Ali Bahrami,
Manager, Transport Airplane Directorate, Aircraft Certification Service.

[FR Doc. E8-29076 Filed 12-10-08; 8:45 am]

BILLING CODE 4910-13-P